U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission.

Name: Larry M. Wortzel, Chairman of the U.S.-China Economic and Security Review Commission.

The Commission is mandated by Congress to investigate, assess, evaluate and report to Congress annually on the U.S.-China economic and security relationship. The mandate specifically charges the Commission to evaluate “the compliance of the People's Republic of China with its accession agreement to the World Trade Organization.” The Commission is further mandated to assess “the qualitative and quantitative nature of the transfer of United States production activities to the People's Republic of China, including the relocation of high technology, manufacturing, and research and development facilities, the impact of such transfers on United States national security * * * and the effect of such transfers on United States economic security and employment.”

Pursuant to this mandate, the Commission will hold a public hearing in Washington, DC on Tuesday, April 4, 2006.

Background

This event is the fourth in a series of public hearings the Commission will hold during its 2006 report cycle to collect input from leading experts in academia, business, industry, government and the public on the impact of the economic and national security implications of the U.S. growing bilateral trade and economic relationship with China. The April 4 hearing is being conducted to obtain commentary about issues connected to China's World Trade Organization Compliance. Information on upcoming hearings, as well as transcripts of past Commission hearings, can be obtained from the USCC Web site http://www.uscc.gov.

The April 4 hearing will address “China's World Trade Organization Compliance: Industrial Subsidies and the Impact on U.S. and World Markets” and will be Co-chaired by Commissioners Michael Wessel and Peter Brookes.

Purpose of Hearing

The hearing is designed to assist the Commission in fulfilling its mandate by assessing China's compliance with its World Trade Organization accession agreement on subsidies, examining what constitutes the breadth of China's subsidy regime, evaluating the level of transparency into China's subsidy regime and economic planning process, and identifying how China's industrial subsidies negatively or positively affect U.S. companies, investors, and workers.

Copies of the hearing agenda will be made available on the Commission's Web site http://www.uscc.gov. Any interested party may file a written statement by April 4, 2006, by mailing to the contact below.

Date and Time: Tuesday, April 4, 2006, 9 a.m. to 5 p.m. Eastern Standard Time. A detailed agenda for the hearing will be posted to the Commission's Web site at www.uscc.gov in the near future.

ADDRESSES: The hearing will be held on Capitol Hill on April 4 in Room 2323 Rayburn House Office Building. Public seating is limited to about 50 people on a first come, first served basis. Advance reservations are not required.

FOR FURTHER INFORMATION CONTACT: Any member of the public wishing further information concerning the hearing should contact Kathy Michels, Associate Director for the U.S.-China Economic and Security Review Commission, 444 North Capitol Street, NW., Suite 602, Washington, DC 20001; phone 202-624-1409, or via e-mail at kmichels@uscc.gov.

Authority: Congress created the U.S.-China Economic and Security Review Commission in 2000 in the National Defense Authorization Act (Pub. L. 106-398 as amended by Division P of the Consolidated Appropriations Resolution, 2003 (Pub. L. 108-7), as amended by Public Law 109-108 (November 22, 2005).

Dated: March 23, 2006.
Kathleen J. Michels,
Associate Director, U.S.-China Economic and Security Review Commission.

[FR Doc. E6-4508 Filed 3-28-06; 8:45 am]

BILLING CODE 1137-00-P